DEPARTMENT OF AGRICULTURE

Animal and Plant Health Inspection Service

[Docket No. APHIS-2013-0098]

Notice of Request for Revision to and Extension of Approval of an Information Collection; Importation of Animals and Poultry, Animal and Poultry Products, Certain Animal Embryos, Semen, and Zoological Animals

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the importation of animals and poultry, animal and poultry products, certain animal embryos, semen, and zoological animals.

DATES: We will consider all comments that we receive on or before March 31, 2014.

ADDRESSES: You may submit comments by either of the following methods:

• Federal eRulemaking Portal: Go to http://www.regulations.gov/#!documentDetail;D=APHIS-2013-0098-0001.

• Postal Mail/Commercial Delivery: Send your comment to Docket No. APHIS-2013-0098, Regulatory Analysis and Development, PPD, APHIS, Station 3A-03.8, 4700 River Road Unit 118, Riverdale, MD 20737-1238.

Supporting documents and any comments we receive on this docket may be viewed at http://www.regulations.gov/#!docketDetail;D=APHIS-2013-0098 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the importation of animals and poultry, animal and poultry products, certain animal embryos, semen, and zoological animals, contact Dr. Bettina Helm, Avian Import Specialist, National Import Export Services, VS, APHIS, 4700 River Road Unit 40, Riverdale, MD 20737; (301) 851-3300. For copies of more detailed information on the information collection, contact Mrs. Celeste Sickles, APHIS' Information Collection Coordinator, at (301) 851-2908.

SUPPLEMENTARY INFORMATION:

Title: Importation of Animals and Poultry, Animal and Poultry Products, Certain Animal Embryos, Semen, and Zoological Animals.

OMB Control Number: 0579-0040.

Type of Request: Revision to and extension of approval of an information collection.

Abstract: Under the Animal Health Protection Act (7 U.S.C. 8301 et seq.), the Animal and Plant Health Inspection Service (APHIS) of the United States Department of Agriculture (USDA) is authorized, among other things, to prohibit or restrict the importation of animals, animal products, and other articles into the United States to prevent the introduction of animal diseases and pests. In support of this mission, APHIS collects pertinent information from persons who import animals or poultry, animal or poultry products, certain animal embryos, semen, or zoological animals into the United States. This information includes data such as the origin of the animals or animal products to be imported, the health status of the animals or the processing methods used to produce animal products to be imported, and whether the animals or animal products were temporarily offloaded in another country during their transit to the United States. We need this information to help ensure that these imports do not introduce exotic animal diseases into the United States.

To collect this information, we use a variety of procedures and forms, including health certificates, import permits, specimen submission forms, inspection reports, cooperative and trust fund agreements, and certification statements.

These information collection activities were previously approved by the Office of Management and Budget (OMB) with an estimated annual number of responses of 259,871 and an estimated total annual burden on respondents of 101,626 hours. These numbers have decreased to 121,397 and 31,923, respectively, due to program changes. For instance, one required form now replaces two previously required forms. Also, we no longer allow the importation of ratites, except for those destined to zoos. In addition, we reduced the number of States providing written agreements for one program. Lastly, we corrected the number of respondents to more accurately reflect the various forms of payment and letters of credit we receive.

We are also revising this collection by returning five forms that had been moved to OMB control number 0579-0324; however, the return of these forms will not increase the overall burden.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.26 hours per response.

Respondents: Foreign animal health authorities seeking to engage in the regionalization process, U.S. importers; State animal health officials; foreign exporters; foreign animal health officials; shippers, owners, and operators of foreign processing plants and farms; USDA-approved zoos, laboratories, and feedlots; private quarantine facilities; and other entities involved (directly or indirectly) in the importation of animals and poultry, animal and poultry products, zoological animals, certain animal embryos, and semen.

Estimated annual number of respondents: 1,278.

Estimated annual number of responses per respondent: 95.

Estimated annual number of responses: 121,397.

Estimated total annual burden on respondents: 31,923 hours. (Due to averaging, the total annual burden hours may not equal the product of the annual number of responses multiplied by the reporting burden per response.)

All responses to this notice will be summarized and included in the request for OMB approval. All comments will also become a matter of public record.

Done in Washington, DC, this 23rd day of January 2014. .
Kevin Shea,
Administrator, Animal and Plant Health Inspection Service.

[FR Doc. 2014-01758 Filed 1-29-14; 8:45 am]

BILLING CODE 3410-34-P